DEPARTMENT OF ENERGY

Federal Energy Regulatory Commission

Combined Notice of Filings #1

Take notice that the Commission received the following electric corporate filings:

Docket Numbers: EC13-98-000.

Applicants: SWG Colorado, LLC, SWG Arapahoe, LLC.

Description: Application under Section 203 of the Federal Power Act of SWG Colorado, LLC, et al.

Filed Date: 4/26/13.

Accession Number: 20130426-5259.

Comments Due: 5 p.m. e.t. 5/17/13.

Docket Numbers: EC13-99-000.

Applicants: Wabash Valley Power Association, Inc.

Description: Joint Application of Wabash Valley Power Association, Inc. for Authorization under Section 203 of the Federal Power Act.

Filed Date: 4/29/13.

Accession Number: 20130429-5051.

Comments Due: 5 p.m. e.t. 5/20/13.

Take notice that the Commission received the following electric rate filings:

Docket Numbers: ER10-2179-018; ER10-2181-018; ER10-2182-018.

Applicants: R.E. Ginna Nuclear Power Plant, LLC, Nine Mile Point Nuclear Station, LLC, Calvert Cliffs Nuclear Power Plant, LLC.

Description: Notice of Change in Status of Calvert Cliffs Nuclear Power Plant, LLC, et al.

Filed Date: 4/26/13.

Accession Number: 20130426-5252.

Comments Due: 5 p.m. e.t. 5/17/13.

Docket Numbers: ER12-281-003.

Applicants: Northampton Generating Company, L.P.

Description: Notice of Non-Material Change in Status of Northampton Generating Company, L.P.

Filed Date: 4/29/13.

Accession Number: 20130429-5213.

Comments Due: 5 p.m. e.t. 5/20/13.

Docket Numbers: ER12-2068-003; ER10-2460-005; ER10-2461-005; ER12-682-006; ER10-2463-005; ER11-2201-009; ER12-1311-005; ER10-2466-006; ER11-4029-005; ER13-17-003.

Applicants: Blue Sky East, LLC, Canandaigua Power Partners I, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Notice of Change in Status of Blue Sky East, LLC, et al.

Filed Date: 4/29/13.

Accession Number: 20130429-5085.

Comments Due: 5 p.m. e.t. 5/20/13.

Docket Numbers: ER12-2178-006; ER10-2172-017; ER12-2311-006; ER11-2016-012; ER10-2184-017; ER10-2183-014; ER10-1048-014 ER10-2176-018; ER10-2192-017; ER11-2056-011; ER10-2178-017; ER10-2174-017; ER11-2014-014; ER11-2013-014 ER10-3308-016; ER10-1020-013; ER10-1145-013; ER10-1144-012; ER10-1078-013; ER10-1080-013; ER11-2010-014 ER10-1081-013; ER10-2180-017; ER11-2011-013; ER12-2201-006; ER12-2528-005; ER11-2009-013; ER11-3989-011 ER10-1143-013; ER11-2780-012; ER12-1829-006; ER11-2007-012; ER12-1223-011; ER11-2005-014.

Applicants: AV Solar Ranch 1, LLC, Baltimore Gas and Electric Company, Beebe Renewable Energy, LLC, Cassia Gulch Wind Park, LLC, CER Generation II, LLC, CER Generation, LLC, Commonwealth Edison Company, Constellation Energy Commodities Group, Inc., Constellation Energy Commodities Group Maine, LLC, Constellation Mystic Power, LLC, Constellation NewEnergy, Inc., Constellation Power Source Generation Inc., Cow Branch Wind Power, L.L.C.,CR Clearing, LLC, Criterion Power Partners, LLC, Exelon Framingham, LLC,cExelon Generation Company, LLC, Exelon New Boston, LLC, Exelon West Medway, LLC, Exelon Wind 4, LLC, Exelon Wyman, LLC, Handsome Lake Energy, LLC, Harvest Windfarm, LLC, Harvest II Windfarm, LLC, High Mesa Energy, LLC, Michigan Wind 1, LLC, Michigan Wind 2, LLC, PECO Energy Company, Safe Harbor Water Power Corporation, Shooting Star Wind Project, LLC, Tuana Springs Energy, LLC, Wildcat Wind, LLC, Wind Capital Holdings, LLC.

Description: Notice of Change in Status of AV Solar Ranch 1, LLC, et al.

Filed Date: 4/26/13.

Accession Number: 20130426-5265.

Comments Due: 5 p.m. e.t. 5/17/13.

Docket Numbers: ER13-665-001.

Applicants: Midcontinent Independent System Operator, Inc.

Description: 2013-04-29 LTTR ARR Compliance Filing to be effective 3/29/2013.

Filed Date: 4/29/13.

Accession Number: 20130429-5114.

Comments Due: 5 p.m. e.t. 5/20/13.

Docket Numbers: ER13-834-001.

Applicants: Southwest Power Pool, Inc.

Description: Registration Freeze Compliance to be effective 4/1/2013.

Filed Date: 4/26/13.

Accession Number: 20130426-5234.

Comments Due: 5 p.m. e.t. 5/17/13.

Docket Numbers: ER13-1352-000.

Applicants: Massachusetts Electric Company.

Description: Interconnection Agreement Between Massachusetts Electric Co. and Ameresco to be effective 6/26/2013.

Filed Date: 4/26/13.

Accession Number: 20130426-5231.

Comments Due: 5 p.m. e.t. 5/17/13.

Docket Numbers: ER13-1353-000.

Applicants: PJM Interconnection, L.L.C.

Description: Revisions to the OATT & OA re Demand Response M&V Procedure Revisions to be effective 6/25/2013.

Filed Date: 4/26/13.

Accession Number: 20130426-5232.

Comments Due: 5 p.m. e.t. 5/17/13.

Docket Numbers: ER13-1354-000.

Applicants: Massachusetts Electric Company.

Description: Interconnection Agreement Between Mass. Electric Co. and Casella Waste Systems to be effective 6/26/2013.

Filed Date: 4/26/13.

Accession Number: 20130426-5235.

Comments Due: 5 p.m. e.t. 5/17/13.

Docket Numbers: ER13-1355-000.

Applicants: PacifiCorp.

Description: Termination of PacifiCorp Rate Schedule No. 611, the Northern Tier Transmission Group Second Amended and Restated 2007 Funding Agreement.

Filed Date: 4/26/13.

Accession Number: 20130426-5245.

Comments Due: 5 p.m. e.t. 5/17/13.

Docket Numbers: ER13-1356-000.

Applicants: Duke Energy Florida, Inc.

Description: Annual update of cost factors for Florida Power Corp. Interchange Agreements to be effective 5/1/2013.

Filed Date: 4/29/13.

Accession Number: 20130429-5028.

Comments Due: 5 p.m. e.t. 5/20/13.

Docket Numbers: ER13-1357-000.

Applicants: Duke Energy Progress, Inc.

Description: Notice of Succession to be effective 4/29/2013.

Filed Date: 4/29/13.

Accession Number: 20130429-5128.

Comments Due: 5 p.m. e.t. 5/20/13.

Docket Numbers: ER13-1358-000.

Applicants: Duke Energy Florida, Inc.

Description: Notice of Succession to be effective 4/29/2013.

Filed Date: 4/29/13.

Accession Number: 20130429-5139.

Comments Due: 5 p.m. e.t. 5/20/13.

Take notice that the Commission received the following electric securities filings:

Docket Numbers: ES13-22-000.

Applicants: MDU Resources Group, Inc.

Description: Application for MDU Resources Group, Inc. for authority to issues shares of common stock.

Filed Date: 4/29/13.

Accession Number: 20130429-5211.

Comments Due: 5 p.m. e.t. 5/20/13.

Take notice that the Commission received the following electric reliability filings.

Docket Numbers: RD13-9-000.

Applicants: North American Electric Reliability Corporation.

Description: Joint Petition of North American Electric Reliability Corporation and Southwest Power Pool Regional Entity for Approval of Proposed Regional Reliability Standard PRC-006-SPP-01—Underfrequency Load Shedding.

Filed Date: 4/26/13.

Accession Number: 20130426-5268.

Comments Due: 5 p.m. e.t. 5/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2013.
Nathaniel J. Davis, Sr.,
Deputy Secretary.

[FR Doc. 2013-10635 Filed 5-3-13; 8:45 am]

BILLING CODE 6717-01-P